DEPARTMENT OF DEFENSE

Office of the Secretary

[Docket ID: DOD-2010-OS-0031]

Privacy Act of 1974; Systems of Records

AGENCY: Defense Intelligence Agency, DoD.

ACTION: Notice to amend a system of records.

SUMMARY: The Defense Intelligence Agency proposes to amend a system of records notice of its inventory of record systems subject to the Privacy Act of 1974 (5 U.S.C. 552a), as amended.

DATES: This action will be effective without further notice on April 26, 2010 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa S. Lowery at (202) 231-1193.

SUPPLEMENTARY INFORMATION: The Defense Intelligence Agency notices for systems of records subject to the Privacy Act of 1974 (5 U.S.C. 552a), as amended, have been published in the Federal Register and are available from the Records and Privacy Act Services (DAN-1A), 200 MacDill Blvd., Washington DC 20340-5100.

The specific changes to the record system being amended are set forth below followed by the notice, as amended, published in its entirety. The proposed amendment is not within the purview of subsection (r) of the Privacy Act of 1974, (5 U.S.C. 552a), as amended, which requires the submission of a new or altered system report.

Dated: March 22, 2010.
Mitchell S. Bryman,
Alternate OSD Federal Register Liaison Officer, Department of Defense.

LDIA 06-0003

System name:

Deployment Management Records (June 14, 2006; 71 FR 34318)

Changes:

* * * * *

Categories of records in the system:

Delete entry and replace with “Records include but are not limited to copies of security information, copies of medical files, documentation of fulfilled training requirements, organizational and administrative information. Records include a profile containing: Full name of the individual, Social Security Number (SSN), Deployment Identification Number, home, work, cell and pager numbers, home address, personal and work email address, emergency contact name, telephone number, home address, and e-mail address, contract number and contractor organization name, along with employer's contact name, address and telephone number, travel itineraries, deployment, copies of passport and/or visa and common access or identification card, travel authorization information, trip dates, deployment processing information including training completed certifications, medical and dental screenings, blood type, and other official deployment-related information.”

Authority for maintenance of the system:

Delete entry and replace with “5 U.S.C. 301, Departmental Regulations; 44 U.S.C. 3102, Establishment of program of management; DIA Instruction 1400.003, Civilian Workforce Deployments; and E.O. 9397 (SSN), as amended.”

* * * * *

Storage:

Delete entry and replace with “Paper and electronic storage media.”

* * * * *

Record source categories:

Delete entry and replace with “Agency employees, other government agencies and their employees”.

* * * * *

LDIA 06-0003

System name:

Deployment Management Records

System location:

Defense Intelligence Agency (DIA) Deployment Center, 3300 75th Ave., Landover, MD 20781-1501.

Categories of individuals covered by the system:

Military personnel, civilian employees, employees of other government agencies and contractors supporting ongoing contingency operations for DIA missions.

Categories of records in the system:

Records include but are not limited to copies of security information, copies of medical files, documentation of fulfilled training requirements, organizational and administrative information. Records include a profile containing: Full name of the individual, Social Security Number (SSN), Deployment Identification Number, home, work, cell and pager numbers, home address, personal and work email address, emergency contact name, telephone number, home address, and email address, contract number and contractor organization name, along with employer's contact name, address and telephone number, travel itineraries, deployment, copies of passport and/or visa and common access or identification card, travel authorization information, trip dates, deployment processing information including training completed certifications, medical and dental screenings, blood type, and other official deployment-related information.

Authority for maintenance of the system:

5 U.S.C. 301, Departmental Regulations; 44 U.S.C. 3102, Establishment of program of management; DIA Instruction 1400.003, Civilian Workforce Deployments; and E.O. 9397 (SSN), as amended.

Purpose(s):

To plan and manage support personnel who deploy in support of ongoing contingency operations for DIA missions.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The `Blanket Routine Uses' set forth at the beginning of the DIA's compilation of systems of records notices apply to this system.

Policies and practices for storing, retrieving, accessing, retaining, and disposing of records in the system:

Storage:

Paper and electronic storage media.

Retrievability:

Name, Social Security Number (SSN) and Deployment Identification Number (DIN).

Safeguards:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.

Retention and disposal:

Disposition and retention pending National Archives and Records Administration (NARA) approval. Records will be treated as permanent until disposition and retention policies are approved by NARA.

System manager(s) and address:

Defense Intelligence Agency (DIA) Deployment Center, 3300 75th Ave., Landover, MD 20781-1501.

Notification procedure:

Individuals seeking to determine whether information about themselves is contained in this system of records should address written inquiries to the DIA Freedom of Information Office (DAN-1A), Defense Intelligence Agency, 200 MacDill Blvd., Washington, DC 20340-5100.

Request should contain the individual's full name, current address, telephone number, and Social Security Number (SSN).

Record access procedures:

Individuals seeking access to information about themselves contained in this system of records, should address written inquiries to the DIA Freedom of Information Office (DAN-1A), 200 MacDill Blvd., Washington, DC 20340-5100.

Request should contain the individual's full name, current address, telephone number, and Social Security Number (SSN).

Contesting record procedures:

DIA's rules for accessing records, for contesting contents and appealing initial agency determinations are published in DIA Instruction 5400.001, “Defense Intelligence Agency Privacy Program”; or may be obtained from the system manager.

Record source categories:

Agency employees, other government agencies and their employees.

Exemptions claimed for the system:

None.

[FR Doc. 2010-6689 Filed 3-25-10; 8:45 am]

BILLING CODE 5001-06-P